DEPARTMENT OF HEALTH AND HUMAN SERVICES

National Institutes of Health

National Institute of Nursing Research; Amended Notice of Meeting

Notice is hereby given of a change in the meeting of the National Institute of Nursing Research Special Emphasis Panel, February 22, 2001, 8:00 a.m. to February 23, 2001, 5:00 p.m., Doubletree Hotel, 1750 Rockville Pike, Rockville, MD 20852, which was published in the Federal Register on January 26, 2001, 66 FR 7921.

The meeting will be held March 22-23, 2001 at the Holiday Inn Bethesda, 8120 Wisconsin Ave., Maryland Room, Bethesda, MD 20892. The meeting is closed to the public.

Dated: February 15, 2001.
LaVerne Y. Stringfield,
Director, Office of Federal Advisory Committee Policy.

[FR Doc. 01-4443 Filed 2-22-01; 8:45 am]

BILLING CODE 4140-01-M